COMMITTEE FOR PURCHASE FROM PEOPLE WHO ARE BLIND OR SEVERELY DISABLED

Procurement List; Proposed Deletion

AGENCY: Committee for Purchase From People Who Are Blind or Severely Disabled.

ACTION: Proposed deletion from the Procurement List.

SUMMARY: The Committee is proposing to delete a product from the Procurement List that was furnished by a nonprofit agency employing persons who are blind or have other severe disabilities.

DATES: Comments must be received on or before: February 16, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product is proposed for deletion from the Procurement List:

Product

NSN—Product Name:

3990CAAA9243—Pallet, Demo, Sideboard, 30″ x 44″

Mandatory Source of Supply: Bona Vista Programs, Inc., Kokomo, IN

Contracting Activity: W39Z STK REC ACCT-CRANE AAP, CRANE, IN

Patricia Briscoe,
Deputy Director, Business Operations (Pricing and Information Management).

[FR Doc. 2020-00702 Filed 1-16-20; 8:45 am]

BILLING CODE 6353-01-P